EQUAL EMPLOYMENT OPPORTUNITY COMMISSION

Agency Information Collection Activities

AGENCY: Equal Employment Opportunity Commission.

ACTION: Notice of Information Collection—Extension Without Change: Demographic Information on Applicants for Federal Employment.

SUMMARY: In accordance with the Paperwork Reduction Act, the Equal Employment Opportunity Commission (EEOC or Commission) announces that it is submitting to the Office of Management and Budget (OMB) a request for a one-year extension of the Demographic Information on Applicants, OMB No. 3046-0046.

DATES: Written comments on this notice must be submitted on or before July 5, 2012.

ADDRESSES: A copy of this ICR and applicable supporting documentation submitted to OMB for review may be obtained from: Veta P. Hurst, Senior Attorney, (202) 663-4498, Office of Federal Operations, 131 M Street NE., Washington, DC 20507. Comments on this final notice must be submitted to Chad Lallemand in the Office of Information and Regulatory Affairs, Office of Management and Budget, 725 17th Street NW., Room 10235, New Executive Office Building, Washington, DC 20503 or electronically mailed to Chad_A._Lallemand@omb.eop.gov. Comments should also be sent to Bernadette Wilson, Acting Executive Officer, Executive Secretariat, Equal Employment Opportunity Commission, 131 M Street NE., Suite 6NE03F, Washington, DC 20507. Written comments of six or fewer pages may be faxed to the Executive Secretariat at (202) 663-4114. (There is no toll free fax number.) Receipt of facsimile transmittals will not be acknowledged, except that the sender may request confirmation of receipt by calling the Executive Secretariat staff at (202) 663- 4070 (voice) or (202) 663-4074 (TTY). (These are not toll free numbers.)

FOR FURTHER INFORMATION CONTACT: Veta Hurst, Federal Sector Programs, Office of Federal Operations, 131 M Street NE., Washington, DC 20507, (202) 663-4498 (voice); (202) 663-4593 (TTY). Copies of this notice are available in the following alternate formats: Large print, braille, electronic computer disk, and audiotape. Requests for this notice in an alternative format should be made to the Publications Center at 1-800-699-3362 (voice), 1-800-800-3302 (TTY), or 703- 821-2098 (FAX—this is not a toll free number).

SUPPLEMENTARY INFORMATION: The 60-day notice was published in the Federal Register on February 21, 2012, allowing for a 60-day public comment period. No comments were received.

Overview of Information Collection

Collection Title: Demographic Information on Applicants.

OMB Control No.: 3046-0046.

Description of Affected Public: Individuals submitting applications for federal employment.

Number of Responses: 26,854,281.

Estimated Time per Respondent: 3 minutes.

Total Burden Hours: 1,342,714 [(26,854,281x3)/60].

Federal Cost: None.

Abstract: Under section 717 of Title VII and 501 of the Rehabilitation Act, the Commission is charged with reviewing and approving federal agencies plans to affirmatively address potential discrimination before it occurs. Pursuant to such oversight responsibilities, the Commission has established systems to monitor compliance with Title VII and the Rehabilitation Act by requiring federal agencies to evaluate their employment practices through the collection and analysis of data on the race, national origin, sex and disability status of applicants for both permanent and temporary employment.

While several federal agencies (or components of such agencies) have obtained OMB approval for the use of forms collecting data on the race, national origin, sex and disability status of applicants, it is not an efficient use of government resources for each federal agency to separately seek OMB approval. Accordingly, in order to avoid unnecessary duplication of effort and a proliferation of forms, the EEOC seeks approval of a form to be used by federal agencies.

Response by applicants is optional. The information obtained will be used by federal agencies only for evaluating whether an agency's recruitment activities are effectively reaching all segments of the relevant labor pool and whether the agency's selection procedures allow all applicants to compete on a level-playing field regardless of race, national origin, or sex. The voluntary responses are treated in a highly confidential manner and play no part in the selection. The information is not provided to any panel rating the applications, to selecting officials, to anyone who can affect the application or to the public. Rather, the information is used in summary form to determine trends over many selections within a given occupational or organization area. No information from the form is entered into an official personnel file.

Burden Statement: In fiscal year 2011, EEOC gathered data from the 59 federal agencies required to collect applicant data. Based on the agency responses, we expect that 26,854,281 applicants will be asked to complete the form.

Because of the predominant use of online application systems, which require only pointing and clicking on the selected responses, and because the form requests only eight questions regarding basic information, the EEOC estimates that an applicant can complete the form in approximately 3 minutes or less.

OMB is particularly interested in comments which: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Dated: May 29, 2012.
For the Commission.
Jacqueline A. Berrien,
Chair.

[FR Doc. 2012-13521 Filed 6-4-12; 8:45 am]

BILLING CODE 6570-01-P